DEPARTMENT OF COMMERCE

International Trade Administration

[A-557-815, A-549-830, A-552-816]

Welded Stainless Steel Pressure Pipe From Malaysia, Thailand, and the Socialist Republic of Vietnam: Continuation of Antidumping Duty Orders

AGENCY: Enforcement and Compliance, International Trade Administration, Department of Commerce.

SUMMARY: As a result of the determinations by the Department of Commerce (Commerce) and the U.S. International Trade Commission (ITC) that revocation of the antidumping duty (AD) orders on welded stainless steel pressure pipe (WSSPP) from Malaysia, Thailand, and the Socialist Republic of Vietnam (Vietnam) would likely lead to a continuation or recurrence of dumping and material injury to an industry in the United States, Commerce is publishing a notice of continuation of the AD orders.

DATES: Applicable December 3, 2019.

FOR FURTHER INFORMATION CONTACT: Ariela Garvett or Magd Zalok, AD/CVD Operations, Office IV, Enforcement and Compliance, International Trade Administration, U.S. Department of Commerce, 1401 Constitution Avenue NW, Washington, DC 20230; telephone: (202) 482-3609 and (202) 482-4162, respectively.

SUPPLEMENTARY INFORMATION:

Background

On July 21, 2014, Commerce published in the Federal Register the notices of the antidumping duty orders on WSSPP from Malaysia, Thailand, and Vietnam.¹ Between June 3, 2019 and June 4, 2019, pursuant to section 751(c) of the Tariff Act of 1930, as amended (the Act), Commerce published the initiation of the first sunset reviews of the Orders and the ITC instituted its review of the Orders.²

¹ See Welded Stainless Pressure Pipe from Malaysia, Thailand, and the Socialist Republic of Vietnam: Antidumping Duty Orders, 79 FR 42289 (July 21, 2014) (Orders).

² See Initiation of Five-Year (Sunset) Reviews, 84 FR 25741 (June 4, 2019); see also Welded Stainless Pressure Pipe from China, Malaysia, Thailand, and Vietnam; Institution of Five-Year Reviews, 84 FR 25567 (June 3, 2019).

Between June 13, 2019 and June 18, 2019, Commerce received timely and complete notices of intent to participate in these sunset reviews from Bristol Metals, LLC, Felker Brothers Corporation, and Webco Industries, Inc. (collectively, domestic interested parties), within the deadline specified in 19 CFR 351.218(d)(1)(i).³ The domestic interested parties claimed interested party status under section 771(9)(C) of the Act as manufacturers in the United States of the domestic like product.⁴

³ See Domestic Interested Parties' Letters, “Welded Stainless Steel Pressure Pipe from Malaysia: Notice of Intent to Participate,” dated June 13, 2019 (Malaysia Intent to Participate); “Welded Stainless Steel Pressure Pipe from Thailand: Notice of Intent to Participate,” dated June 13, 2019 (Thailand Intent to Participate); and “Welded Stainless Steel Pressure Pipe from Vietnam: Notice of Intent to Participate,” dated June 13, 2019 (Vietnam Intent to Participate). Also, Commerce received a timely and complete notice of intent to participate in these sunset reviews from domestic interested party Primus Pipe & Tube, Inc. (Primus). See Primus' Letter, “Welded Stainless Steel Pressure Pipe from Malaysia, Thailand, and the Socialist Republic of Vietnam: Notice of Intent to Participate,” dated June 18, 2019.

⁴ See Malaysia Intent to Participate at 2; see also Thailand Intent to Participate at 2; Vietnam Intent to Participate at 2; Primus Intent to Participate at 2.

Between July 1, 2019 and July 5, 2019, the domestic interested parties filed timely and adequate substantive responses, within the deadline specified in 19 CFR 351.218(d)(3)(i).⁵ Commerce received no substantive response from respondent interested parties. Pursuant to section 751(c)(3)(B) of the Act, Commerce conducted expedited (120-day) sunset reviews of the Orders.⁶ On October 15, 2019, the ITC exercised its discretion to extend its review period by up to 90 days to conduct expedited five-year reviews of the Orders.⁷

⁵ See Domestic Interested Parties' Letter “Welded Stainless Steel Pressure Pipe from Malaysia: Substantive Response to Notice of Initiation,” dated July 1, 2019; see also Domestic Interested Parties' Letters, “Welded Stainless Steel Pressure Pipe from Thailand: Substantive Response to Notice of Initiation,” dated July 1, 2019; and “Welded Stainless Steel Pressure Pipe from Vietnam: Substantive Response to Notice of Initiation,” dated July 1, 2019. Also, Primus submitted a response, in which it agreed with the substantive responses of the other domestic interested parties. See Primus' Letter, “Welded Stainless Steel Pipe Sunset Review: 2nd Review for China AD/CVD; 1st Review for Vietnam, Thailand and Malaysia; Substantive Response to Notice of Initiation,” dated July 5, 2019.

⁶ See Commerce's Letter, “Sunset Reviews Initiated on June 1, 2019,” dated July 29, 2019.

⁷ See Welded Stainless Steel Pressure Pipe from China, Malaysia, Thailand, and Vietnam; Scheduling of Expedited Five-Year Reviews, 84 FR 55171 (October 15, 2019).

As a result of its reviews, Commerce determined, pursuant to sections 751(c)(1) and 752(c) of the Act, that revocation of the Orders on WSSPP from Malaysia, Thailand, and Vietnam would likely lead to continuation or recurrence of dumping. Commerce, therefore, notified the ITC of the magnitude of the margins of dumping rates likely to prevail should these Orders be revoked, in accordance with sections 752(c)(3) of the Act.⁸

⁸ See Welded Stainless Steel Pressure Pipe from Malaysia, Thailand, and the Socialist Republic of Vietnam: Final Results of Expedited First Sunset Reviews of Antidumping Duty Orders, 84 FR 52458 (October 2, 2019).

On November 25, 2019 the ITC published its determination that revocation of the Orders would likely lead to a continuation or recurrence of material injury to an industry in the United States within a reasonably foreseeable time, pursuant to sections 751(c) and 752(a) of the Act.⁹

⁹ See Welded Stainless Steel Pressure Pipe from China, Malaysia, Thailand, and Vietnam; Determination, 84 FR 64922 (November 25, 2019); see also Welded Stainless Steel Pressure Pipe from China, Malaysia, Thailand, and Vietnam (Inv. Nos. 701-TA-454 and 731-TA-1144 (Second Review) and 731-TA-1210-1212 (Review), USITC Publication 4994, November 2019).

Scope of the Orders

The merchandise covered by these orders are circular welded austenitic stainless pressure pipe not greater than 14 inches in outside diameter. For purposes of these orders, references to size are in nominal inches and include all products within tolerances allowed by pipe specifications. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A-269, ASTM A-270 or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope of these investigations is dispositive.

Continuation of the Orders

As a result of the determinations by Commerce and the ITC that revocation of the Orders would likely lead to a continuation or recurrence of dumping and material injury to an industry in the United States, pursuant to section 751(d)(2) of the Act and 19 CFR 351.218(a), Commerce hereby orders the continuation of the Orders on WSSPP from Malaysia, Thailand, and Vietnam. U.S. Customs and Border Protection will continue to collect AD cash deposits at the rates in effect at the time of entry for all imports of subject merchandise.

The effective date of the continuation of the Orders will be the date of publication in the Federal Register of this notice of continuation. Pursuant to section 751(c)(2) of the Act and 19 CFR 351.218(c)(2), Commerce intends to initiate the next five-year (sunset) reviews of these Orders not later than 30 days prior to the fifth anniversary of the effective date of continuation.

Administrative Protective Order (APO)

This notice also serves as the only reminder to parties subject to APO of their responsibility concerning the return, destruction, or conversion to judicial protective order of proprietary information disclosed under APO in accordance with 19 CFR 351.305(a)(3). Failure to comply is a violation of the APO which may be subject to sanctions.

Notification to Interested Parties

These five-year sunset reviews and this notice are in accordance with section 751(c) of the Act and published pursuant to section 777(i)(1) of the Act and 19 CFR 351.218(f)(4).

Dated: November 25, 2019.
Jeffrey I. Kessler,
Assistant Secretary for Enforcement and Compliance.

[FR Doc. 2019-26038 Filed 12-2-19; 8:45 am]

BILLING CODE 3510-DS-P